DEPARTMENT OF COMMERCE

International Trade Administration

[A-822-804, A-570-860, A-560-811, A-449-804, A-841-804, A-455-803, and A-823-809]

Steel Concrete Reinforcing Bars From Belarus, the People's Republic of China, Indonesia, Latvia, Moldova, Poland, and Ukraine: Continuation of Antidumping Duty Orders

AGENCY: Enforcement and Compliance, International Trade Administration, Department of Commerce.

SUMMARY: As a result of the determinations by the U.S. Department of Commerce (Commerce) and the U.S. International Trade Commission (ITC) that revocation of the antidumping duty (AD) orders steel concrete reinforcing bars (rebar) from Belarus, the People's Republic of China (China), Indonesia, Latvia, Moldova, Poland, and Ukraine would likely lead to the continuation or recurrence of dumping, and material injury to an industry in the United States, Commerce is publishing a notice of continuation of these AD orders.

DATES: Applicable December 13, 2024.

FOR FURTHER INFORMATION CONTACT: Jinny Ahn, AD/CVD Operations, Office VI, Enforcement and Compliance, International Trade Administration, U.S. Department of Commerce, 1401 Constitution Avenue NW, Washington, DC 20230; telephone: (202) 482-0339.

SUPPLEMENTARY INFORMATION:

Background

On September 7, 2001, Commerce published in the Federal Register the AD orders on rebar from Belarus, China, Indonesia, Latvia, Moldova, Poland, and Ukraine.¹ On November 1, 2023, the ITC instituted,² and Commerce initiated,³ the fourth sunset review of the Orders, pursuant to section 751(c) of the Tariff Act of 1930, as amended (the Act). As a result of its reviews, Commerce determined that revocation of the Orders would likely lead to the continuation or recurrence of dumping, and therefore, notified the ITC of the magnitude of the margins of dumping likely to prevail should the Orders be revoked.⁴

¹ See Antidumping Duty Orders: Steel Concrete Reinforcing Bars from Belarus, Indonesia, Latvia, Moldova, People's Republic of China, Poland, Republic of Korea and Ukraine, 66 FR 46777 (September 7, 2001) (collectively, Orders). On August 9, 2007, Commerce revoked the AD order on rebar from the Republic of Korea. See Steel Concrete Reinforcing Bars from South Korea: Revocation of Antidumping Duty Order, 72 FR 44830 (August 9, 2007).

² See Steel Concrete Reinforcing Bar from Belarus, China, Indonesia, Latvia, Moldova, Poland, and Ukraine; Institution of Five-Year Reviews, 88 FR 75033 (November 1, 2023).

³ See Initiation of Five-Year (Sunset) Reviews, 88 FR 74977 (November 1, 2023).

⁴ See Steel Concrete Reinforcing Bars from Belarus, the People's Republic of China, Indonesia, Latvia, Moldova, Poland, and Ukraine: Final Results of the Expedited Fourth Sunset Review of the Antidumping Duty Orders, 89 FR 16529 (March 7, 2024), and accompanying Issues and Decision Memorandum (IDM).

On December 13, 2024, the ITC published its determination, pursuant to section 751(c) of the Act, that revocation of the Orders would likely lead to continuation or recurrence of material injury to an industry in the United States within a reasonably foreseeable time.⁵

⁵ See Steel Concrete Reinforcing Bar (Rebar) from Belarus, China, Indonesia, Latvia, Moldova, Poland, and Ukraine, 89 FR 101050 (December 13, 2024) (ITC Final Determination).

Scope of the Orders

The scope of these Orders covers all steel concrete reinforcing bars sold in straight lengths, currently classifiable in the Harmonized Tariff Schedule of the United States (HTSUS) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the Orders is dispositive.

Continuation of the Orders

As a result of the determinations by Commerce and the ITC that revocation of the Orders would likely lead to continuation or recurrence of dumping and material injury to an industry in the United States, pursuant to section 751(d)(2) of the Act, Commerce hereby orders the continuation of the Orders. U.S. Customs and Border Protection will continue to collect AD cash deposits at the rates in effect at the time of entry for all imports of subject merchandise.

The effective date of the continuation of the Orders will be December 13, 2024.⁶ Pursuant to section 751(c)(2) of the Act and 19 CFR 351.218(c)(2), Commerce intends to initiate the next five-year reviews of the Orders not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act, and published in accordance with section 777(i) of the Act and 19 CFR 351.218(f)(4).

Dated: December 17, 2024.
Abdelali Elouaradia,
Deputy Assistant Secretary for Enforcement and Compliance.

[FR Doc. 2024-30533 Filed 12-20-24; 8:45 am]

BILLING CODE 3510-DS-P